INTERNATIONAL TRADE COMMISSION

[USITC SE-05-001]

Sunshine Act Meeting

Agency Holding the Meeting: International Trade Commission.

Time and Date: January 26, 2005, at 2 p.m.

Place: Room 101, 500 E Street, SW., Washington, DC 20436, telephone: (202) 205-2000.

Status: Open to the public.

Matters To Be Considered:

1. Agenda for future meetings: None.

2. Minutes.

3. Ratification List.

4. Inv. No. 731-TA-653 (Second Review)(Sebacic Acid from China)—briefing and vote. (The Commission is currently scheduled to transmit its determination and Commissioners' opinions to the Secretary of Commerce on or before February 8, 2005.)

5. Outstanding action jackets:

(1) Document No. GC-04-152: Concerning administrative matters.

(2) Document No. GC-04-173: Concerning Inv. No. 337-TA-406 (Certain Lens-Fitted Film Packages)(Enforcement Proceedings II).

(3) Document No. GC-04-178: Concerning administrative matters.

In accordance with Commission policy, subject matter listed above, not disposed of at the scheduled meeting, may be carried over to the agenda of the following meeting.

Issued: January 12, 2005.
By order of the Commission.
Marilyn R. Abbott,
Secretary to the Commission.

[FR Doc. 05-1019 Filed 1-13-05; 12:10 pm]

BILLING CODE 7020-02-P